DEPARTMENT OF TRANSPORTATION

Federal Highway Administration

Environmental Impact Statement: Southcentral, Alaska

AGENCY: Federal Highway Administration (FHWA), DOT.

ACTION: Amended Notice of Intent.

SUMMARY: The Federal Highway Administration (FHWA) is issuing this amended notice to advise the public that an environmental impact statement will not be prepared for the proposed Copper River Highway project in Southcentral, Alaska.

ADDRESSES: Federal Highway Administration, Alaska Division, 709 West 9th Street, Room 851, P.O. Box 21648, Juneau, Alaska 99802-1648.

FOR FURTHER INFORMATION CONTACT: Tim Haugh, Environmental/Right-of-Way Specialist, Federal Highway Administration, Alaska Division Office, P.O. Box 21648, Juneau, Alaska, 99802-1648.

Authority: 23 U.S.C. 315; 49 CFR 1.48.

SUPPLEMENTARY INFORMATION: The Federal Highway Administration, in cooperation with the Alaska Department of Transportation and Public Facilities (ADOT&PF) have agreed to terminate the preparation of the Copper River Highway Environmental Impact Statement (EIS). This EIS was to study a proposed highway route, along the old Copper River and Northwest Railroad right-of-way, which would connect the City of Cordova to the Alaskan highway system. In September 2000, the Alaska Department of Transportation and Public Facilities made a decision to not pursue the proposed highway project, thus this notice is to rescind the earlier notice, which was published in the Federal Register on February 27, 1992. Letters describing the termination of the Copper River Highway Environmental Impact Statement will be sent to appropriate Federal, State, and local agencies, and to private organizations and citizens who have previously expressed an interest in or are known to have an interest in this action. This information will be published in various newspapers throughout the State of Alaska in affected regions and posted on-line on the Alaska Department of Transportation and Public Facilities home page (www.dot.state.ak.us). No formal public meetings or hearings are scheduled. Comments concerning the proposed action should be directed to the Federal Highway Administration at the address provided above.

Dated: October 30, 2000.
David C. Miller,
Division Administrator.

[FR Doc. 00-28457 Filed 11-6-00; 8:45 am]

BILLING CODE 4910-EM-M